DEPARTMENT OF STATE

[Delegation of Authority No. 606]

Delegation to the Under Secretary of State for Arms Control and International Security for Country Reports on Terrorism (CRT)

By virtue of the authority vested in the Secretary of State by the laws of the United States, including section 1(a)(4) of the State Department Basic Authorities Act (22 U.S.C. 2651a(a)(4)), I hereby delegate to the Under Secretary of State for Arms Control and International Security the functions and authorities related to the annual CRT under section 140 of the Foreign Relations Authorization Act, Fiscal Years 1988 and 1989 (22 U.S.C. 2656f).

The Secretary, Deputy Secretary, Deputy Secretary for Management and Resources, and Under Secretary for Political Affairs may exercise any function or authority delegated herein. Any reference in this delegation of authority to a statute shall be deemed to be a reference to such statute as amended from time to time and shall be deemed to apply to any provision of law that is the same or substantially the same as such statute.

This delegation of authority will be published in the Federal Register.

Dated: September 11, 2025.
Marco Rubio,
Secretary of State.

Note: This document was received for publication by the Office of the Federal Register on January 14, 2026.

[FR Doc. 2026-00905 Filed 1-16-26; 8:45 am]

BILLING CODE 4710-27-P